DEPARTMENT OF DEFENSE

Department of the Navy

Meeting of the Board of Advisors to the Superintendent, Naval Postgraduate School

AGENCY: Department of the Navy, DOD.

ACTION: Notice of open meeting.

SUMMARY: The purpose of the meeting is to elicit the advice of the board on the Naval Service's Postgraduate Education Program. The board examines the effectiveness with which the Naval Postgraduate School is accomplishing its mission. To this end, the board will inquire into the curricula, instruction, physical equipment, administration, state of morale of the student body, faculty, and staff; fiscal affairs; and any other matters relating to the operation of the Naval Postgraduate School as the board considers pertinent. In order to further the collaborative exchange and partnership between the Naval Postgraduate School and the Air Force Institute of Technology (AFIT), AFIT and the Air University's Board of Visitors will attend a joint session on January 30, 2003. This meeting will be open to the public.

DATES: The meetings will be held on Wednesday, January 29, 2003, from 8 a.m. to 4 p.m. and on Thursday, January 30, 2003, from 8 a.m. to 2 p.m. All written comments regarding this meeting should be received by January 24, 2003, and be directed to Superintendent, Naval Postgraduate School (Attn: Jaye Panza), 1 University Circle, Monterey, CA 92943 or by fax (831) 656-3145.

ADDRESSES: The meetings will be held at the Naval Postgraduate School, Herrmann Hall, 1 University Circle, Monterey, CA.

FOR FURTHER INFORMATION CONTACT: Mrs. Jaye Panza, Naval Postgraduate School, 1 University Circle, Monterey, CA, 93943-5000, telephone number (831) 656-2514.

Dated: January 14, 2003.
R.E. Vincent II,
Lieutenant Commander, Judge Advocate General's Corp, U.S. Navy, Federal Register Liaison Officer.

[FR Doc. 03-1300 Filed 1-17-03; 8:45 am]

BILLING CODE 3810-FF-U